DEPARTMENT OF ENERGY

Federal Energy Regulatory Commission

[Docket No. EG03-80-000, et al.]

North Jersey Energy Associates, et al.; Electric Rate and Corporate Filings

June 30, 2003.

The following filings have been made with the Commission. The filings are listed in ascending order within each docket classification.

1. North Jersey Energy Associates, a Limited Partnership

[Docket No. EG03-80-000]

Take notice that on June 26, 2003, North Jersey Energy Associates, A Limited Partnership (NJEA) , with a principal place of business at 700 Universe Blvd., Juno Beach, FL 33408, filed with the Federal Energy Regulatory Commission (Commission) an Application for Determination of Exempt Wholesale Generator Status pursuant to Part 365 of the Commission's regulations. NJEA states that it is a wholly owned subsidiary of Northeast Energy, L.P.

Comment Date: July 21, 2003.

2. Midwest Independent Transmission System Operator, Inc.

[Docket No. EL03-38-001]

Take notice that on June 23, 2003, the Midwest Independent Transmission System Operator, Inc. (Midwest ISO) submitted for filing amended and unexecuted Service Agreements for Long-Term Firm Transmission Service between the Midwest ISO and (1) Cargill Power Markets, LLC (Cargill) and (2) Conectiv Energy Supply, Inc. (Conectiv), pursuant to an Order of the Federal Energy Regulatory Commission, Midwest Independent Transmission System Operator Inc., 103 FERC ¶ 61,214 (2003).

The Midwest ISO states that it has served a copy of its filing on each person whose name is listed on the official service list maintained by the Secretary in this proceeding. In addition, the Midwest ISO states that it has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter.

Comment Date: July 23, 2003.

3. The New PJM Companies American Electric Power Service Corporation on Behalf of Its Operating Companies Appalachian Power Company, Columbus Southern Power Company, Indiana Michigan Power Company, Kentucky Power Company, Kingsport Power Company, Ohio Power Company, and Wheeling Power Company, Commonwealth Edison Company and Commonwealth Edison Company of Indiana, Inc., The Dayton Power and Light Company and PJM Interconnection, L.L.C.

[Docket No. ER03-262-007]

Take notice that on June 26, 2003, PJM Interconnection, L.L.C. (PJM) and certain operating companies of the American Electric Power System (AEP System), submitted for filing with the Federal Energy Regulatory Commission (Commission) responses to the Commission's June 10, 2003 information request in this proceeding, thereby supplementing the applicants' May 1, 2003 compliance filing in this proceeding.

PJM and the AEP System state that copies of their filing have been served on all persons on the Commission's official service list for this proceeding.

Comment Date: July 17, 2003.

4. Southwest Power Pool, Inc.

[Docket No. ER03-668-002]

Take notice that on June 26, 2003, Southwest Power Pool, Inc. (SPP) filed revisions with the Federal Energy Regulatory Commission (Commission) to the unexecuted Network Integration Transmission Service Agreement and Network Operating Agreement with Kansas Electric Power Cooperative, Inc. (KEPCO) in compliance with the Commission's May 27, 2003 Order in this proceeding. SPP seeks an effective date of March 1, 2003 for these service agreements.

SPP states that copies of this filing were served on KEPCO and on all parties on the official service list in this docket.

Comment Date: July 17, 2003.

5. New York Independent System Operator, Inc.

[Docket No. ER03-984-000]

Take notice that on June 26, 2003, the New York Independent System Operator, Inc. (NYISO), filed proposed revisions to the NYISO's Open Access Transmission Tariff (OATT) and Market Administration and Control Area Services Tariff (Services Tariff). NYISO states that the proposed tariff revisions would establish revised rules governing the NYISO's allocation of new working capital contribution and bad debt loss costs to its customers. NYISO states that they would also expressly authorize the NYISO Board to procure credit insurance.

The NYISO states that it has served a copy of this filing to all parties that have executed Service Agreements under the NYISO's OATT or Services Tariff, the New York State Public Service Commission and to the electric utility regulatory agencies in New Jersey and Pennsylvania.

Comment Date: July 17, 2003.

6. El Cap II, LLC

[Docket No. ER03-985-000]

Take notice that on June 26, 2003, El Cap II, LLC (El Cap II) filed an application requesting acceptance of its proposed Market-Based Rate Tariff, waiver of certain regulations, and blanket approvals.

Comment Date: July 17, 2003.

7. Santa Rosa Energy LLC

[Docket Nos. QF97-138-003 and EL03-206-000]

Take notice that on June 24, 2003, Santa Rosa Energy LLC (Applicants) tendered for filing with the Federal Energy Regulatory Commission (Commission) a petition for limited waiver of the Commission's operating and efficiency standards for a topping-cycle cogeneration facility.

Comment Date: July 24, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-17177 Filed 7-7-03; 8:45 am]

BILLING CODE 6717-01-P